DEPARTMENT OF COMMERCE

National Oceanic and Atmospheric Administration

Proposed Information Collection; Comment Request; Marine Mammal Protection Act Annual Supplemental Data Report

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 21, 2018.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument and instructions should be directed to Michael Asaro at Michael.Asaro@noaa.gov.

SUPPLEMENTARY INFORMATION:

I. Abstract

This request is for a new information collection.

The Atlantic Large Whale Take Reduction Plan (Plan), developed under the authority of the Marine Mammal Protection Act, seeks to enable the National Marine Fisheries Service (NMFS) to reduce injuries and deaths of large whales, especially right whales, due to incidental entanglement in United States commercial fishing gear. In order to develop fair and effective management measures, the Take Reduction Team (Team) requires comprehensive data on when, where, and how fixed gear vessels fish. While subsets of Plan's vessels report on aspects of their operations, the available data form an incomplete picture. NMFS recognizes that forthcoming changes under select fishery management plans (e.g., the American Lobster Fishery Management Plan) may eventually introduce gear and activity reporting of the type requested. Until those requirements are implemented, however, operators of commercial fishing vessels deploying fixed gear (traps, pots, and gillnets) are requested to complete this annual supplemental data collection form, regardless of fishing location, permit type, or the provision of similar information to other Federal and state agencies. This information will allow NMFS to focus further risk reduction measures in certain areas or fisheries, where needed, to meet the goals of the Plan.

II. Method of Collection

This information will initially be collected using a paper form, which respondents will be asked to return by mail. Respondents can also scan and email, or fax their submission. An electronic form will be developed for future iterations.

III. Data

OMB Control Number: 0648-xxxx.

Form Number(s): None.

Type of Review: Regular submission (new information collection).

Affected Public: Business or other for-profit organizations; individuals or households.

Estimated Number of Respondents: 4,604 respondents.

Estimated Time per Response: 45 minutes per year.

Estimated Total Annual Burden Hours: 3,453 hours per year.

Estimated Total Annual Cost to Public: $0.60 per person per year, or $2,762.40 per year in reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 18, 2018.
Sarah Brabson,
NOAA PRA Clearance Officer.

[FR Doc. 2018-13466 Filed 6-21-18; 8:45 am]

BILLING CODE 3510-22-P